DEPARTMENT OF TRANSPORTATION

National Highway Traffic Safety Administration

[U.S. DOT Docket No. NHTSA-2010-0105]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before November 12, 2010.

ADDRESSES: Direct all written comments to the U.S. Department of Transportation Dockets, 1200 New Jersey Ave., SE., Washington, DC 20590. Docket No. NHTSA-2010-0038.

FOR FURTHER INFORMATION CONTACT: Randolph Atkins, PhD, Contracting Officer's Technical Representative, Office of Behavioral Safety Research (NTI-131), National Highway Traffic Safety Administration, 1200 New Jersey Ave., SE., W46-500, Washington, DC 20590. Dr. Atkins' phone number is 202-366-5597 and his e-mail address is randolph.atkins@dot.gov

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: System Analysis of Automated Speed Enforcement (ASE) Implementation.

Type of Request: New information collection request.

OMB Clearance Number: N/A.

Form Number: This collection of information uses no standard forms.

Requested Expiration Date of Approval: September 18, 2013.

Summary of the Collection of Information: A great many enforcement strategies are in use to combat speeding today. One important approach increasingly being used is Automated Speed Enforcement (ASE). A number of studies have shown the use of speed cameras for ASE to be effective in reducing traffic speeds. However, despite the effectiveness of speed cameras programs for ASE, it is often difficult to establish public acceptance for these programs and put them into place. The objectives of this study are to: (1) Determine how the existing speed camera programs in the United States were developed and implemented; (2) Examine other variables that have affected these speed camera programs; and (3) Determine how all of these variables have affected the success of these programs.

This study will conduct a census survey of existing ASE programs in the United States and gather information from each site to address the objectives described above. Key personnel in the existing programs will be surveyed via an emailed questionnaire and by phone. This survey is expected to provide data relevant to ASE development and delivery that may affect the level of public acceptance for given speed camera programs, as well as their success. The variables to be addressed include specific target sites for the ASE (school zones, work zones, etc.), program funding and revenue flow (who pays for it and how, who profits from revenue, how it is promoted as a revenue generator or a safety measure), nature of citations issued (cite vehicle or cite driver), penalties for violations (level of fines, points on license, etc.), presence of other automated enforcement (red light cameras), level of traditional speed law enforcement, existence and results of program evaluations, media reports and level of media exposure, level of public acceptance, and the degree to which programs were set up and implemented according to NHTSA guidelines.

Description of the Need for the Information and Proposed Use of the Information—The National Highway Traffic Safety Administration (NHTSA) was established by the Highway Safety Act of 1970 (23 U.S.C. 101) to carry out a Congressional mandate to reduce the number of deaths, injuries, and economic losses resulting from motor vehicle crashes on the Nation's highways. Speeding is one of the primary factors leading to vehicle crashes. In 2008, 31% of all fatal crashes were speeding-related. The estimated economic cost to society for speeding-related crashes is $40.4 billion per year. Given the widespread occurrence of speeding and the high toll in injuries and lives lost in speed-related crashes, as well as the high economic costs of speed-related crashes, this is a safety issue that demands attention.

Currently the information on existing ASE programs is quite limited. The data collected in this study will provide NHTSA with important detailed information on programs using this countermeasure that will assist in reducing speeding on our nation's highways. In support of its mission, NHTSA will use the findings from this survey of ASE programs to help existing ASE programs improve their programs, and provide new information on this countermeasure for speeding that can assist other communities in establishing well-designed speed management programs, including ASE. This information is focused on achieving the greatest benefit in decreasing crashes and resulting injuries and fatalities, and providing informational support to States, localities, and law enforcement agencies that will aid them in their efforts to reduce traffic crashes.

Description of the Likely Respondents (Including Estimated Number, and Proposed Frequency of Response to the Collection of Information)—According to the Insurance Institute for Highway Safety, there are currently 58 local jurisdictions in 12 States and the District of Columbia using speed cameras for ASE in the United States. A few localities have also discontinued ASE programs in recent years. This survey will target communities that currently have ASE programs and sites that recently discontinued ASE programs. A few key personnel from each of the sites will be contacted to complete the survey on their ASE programs. This will include an emailed questionnaire and phone interviews. Participation will be voluntary. As this is a census collection of information on existing ASE programs and new programs are likely to start before the data collection effort can go into the field, our request includes a projected total to account for possible new program starts. In addition, as the information being collected is intended to help future ASE programs, our request also includes some programs that have discontinued ASE programs. We estimate that a maximum of 80 jurisdictions, including both current ASE programs and recently discontinued ASE programs may be contacted.

Estimate of the Total Annual Reporting and Record Keeping Burden Resulting from the Collection of Information—The total estimated annual burden is approximately 960 hours for the survey and interviews for the 80 jurisdictions combined. We estimate approximately 12 hours per jurisdiction responding to our request for information (80 agencies x 12 hours each = 960 hours total). These 12 hours will be expended gathering data and past reports, writing a response to the questionnaire, and speaking with the researchers on the phone. Personnel to be contacted in each jurisdiction include the Chief of Police, a traffic unit/ASE unit commander, and a data person at each agency. In total, we estimate the need to contact a maximum total of 320 individuals (80 agencies x 4 individuals = 320 individuals contacted). The respondents would not incur any reporting cost from the information collection beyond the time to respond to the information request and they would not incur any record keeping burden or record keeping cost from the information collection.

Authority: 44 U.S.C. Section 3506(c)(2)(A).

Jeff Michael,
Associate Administrator, Research and Program Development.

[FR Doc. 2010-22730 Filed 9-10-10; 8:45 am]

BILLING CODE 4910-59-P